DEPARTMENT OF TRANSPORTATION

Federal Aviation Administration

Proposed Technical Standard Order (TSO)-C26d, Aircraft Wheels, Brakes and Wheel/Brakes Assemblies for Parts 23, 27, and 29 Aircraft

AGENCY: Federal Aviation Administration (DOT).

ACTION: Notice of availability and request for public comment.

SUMMARY: This notice announces the availability of and requests comments on a proposed revision to Technical Standard Order (TSO) C-26c, Aircraft Wheels and Wheel-Brake Assemblies, with Addendum I, to TSO-C26d, Aircraft Wheels, Brakes and Wheel/Brakes Assemblies for Part 23, 27, and 29 Aircraft. This proposed revision tells persons seeking a TSO authorization or letter of design approval what minimum performance standards (MPS) their aircraft wheels, brakes, and wheel/brake assemblies for Part 23, 27, and 29 aircraft must meet to be identified with the applicable TSO marking.

DATES: Comments must be received on or before August 2, 204.

ADDRESSES: Send all comments on the proposed technical standard order to: Federal Aviation Administration (FAA), Aircraft Certification Service, Aircraft Engineering Division, Technical Programs and Continued Airworthiness Branch, AIR-120, 800 Independence Avenue, SW., Washington, DC 20591. ATTN: Mr. George Soteropoulos. Or deliver comments to: Federal Aviation Administration, Room 815, 800 Independence Avenue, SW., Washington, DC 20591.

FOR FURTHER INFORMATION CONTACT: Mr. George Soteropoulos, AIR-120, Room 815, Federal Aviation Administration, Aircraft Certification Service, Aircraft Engineering Division, 800 Independence Avenue, SW., Washington, DC 20591. Telephone (202) 267-9796, FAX: (202) 202-5340. Or, via e-mail at: george.soteropoulos@faa.gov.

SUPPLEMENTARY INFORMATION:

Comments Invited

Interested persons are invited to comment on the proposed TSO listed in this notice by submitting such written data, views, or arguments as they desire to the above specified address. Comments received on the proposed revision may be examined, before and after the comment closing date, in Room 815, FAA Headquarters Building, 800 Independence Avenue, SW., Washington, DC 20591, weekdays except Federal holidays, between 8:30 a.m. and 4:30 p.m. All communications received on or before the closing date will be considered by the Director of the Aircraft Certification Service before issuing the final TSO.

Background

Current TSO-C26c, Aircraft Wheels and Wheel-Brake Assemblies, with Addendum I, dated 5/18/84, prescribes the MPS that Part 23, 25, 27, and 29 aircraft wheels and wheel-brake assemblies must meet to be identified with the applicable TSO marking TSO-C135, Transport Airplane Wheels and Wheel and Brake Assemblies, issued on 5/2/02, prescribes the MPS for Part 25 airplanes as of that date. This proposed revision to TSO-C26c prescribes the MPS for Parts 23, 27, and 29 for new applications, and major design changes to aircraft wheels, brakes and wheel/brake assemblies, submitted after the effective date of this proposed TSO-C26d. This proposed revision also reflects the latest industry practices.

How To Obtain Copies

You may get a copy of the proposed TSO-C26d from the Internet at http://av-info.faa.gov/tso/Tsopro/Proposed.htm. See section entitled FOR FURTHER INFORMATION CONTACT for the complete address if requesting a copy by mail. Copies of SAE ARP5381 may be purchased from the Society of Automotive Engineers, Inc., Department 331, 400 Commonwealth Drive, Warrendale, PA 15096-0001. Copies can also be obtained through the SAE Internet Web site at: www.sae.org.

Issued in Washington, DC, on June 25, 2004.
Susan J.M. Cabler,
Assistant Manager, Aircraft Engineering Division, Aircraft Certification Service.

[FR Doc. 04-15042 Filed 7-04-04; 8:45 am]

BILLING CODE 4910-13-M